SMALL BUSINESS ADMINISTRATION

Surrender of License of Small Business Investment Company

Pursuant to the authority granted to the United States Small Business Administration (“SBA”) under Section 309 of the Small Business Investment Act of 1958, as amended and Section 107.1900 of the SBA Rules and Regulations, SBA by this notice declares null and void the license to function as a small business investment company under Small Business Investment Company License No.01/01-0365 issued to Citizens Ventures, Inc.

United States Small Business Administration.

Dated: April 15, 2015.
Javier E. Saade,
Associate Administrator for Investment and Innovation.

[FR Doc. 2015-09099 Filed 4-20-15; 8:45 am]

BILLING CODE 8025-01-P